DEPARTMENT OF HEALTH AND HUMAN SERVICES

Centers for Disease Control and Prevention

[60Day-08-08BJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Study of Primary and Secondary Prevention Behaviors Practiced Among Five-Year Survivors of Colorectal Cancer—New—Division of Cancer Prevention and Control (DCPC), National Center for Chronic Disease Prevention and Health Promotion (NCCDPHP), Centers for Disease Control and Prevention (CDC).

Background and Brief Description

Colorectal cancer (CRC) is the third most prevalent cancer and the second leading cause of cancer death in both men and women in the United States. In 2004, there were an estimated 145,083 new cases of colorectal cancer diagnosed and 53,580 deaths. However, the five-year relative survival rates of patients diagnosed with CRC have been steadily increasing since 1975 and there are now over 1 million CRC survivors in the U.S.

Despite improved survival rates, CRC survivors are at an elevated risk for cancer recurrence, second primary cancers, and other health problems after being treated for cancer. Research evidence suggests that these elevated risks can be mitigated by healthy lifestyle practices such as exercise and smoking cessation, and by undergoing regular medical follow-up and cancer screenings. A number of medical organizations, therefore, recommend that CRC survivors follow public health and clinical guidelines for prevention behaviors, medical follow-up, and cancer screenings.

A thorough understanding of how individuals make decisions about health care and cancer prevention following cancer diagnosis is imperative for developing public health policies, programs, and interventions to promote health and increased quality of life after cancer, but little is known about the factors that motivate or hinder the adoption of cancer prevention and screening behaviors among cancer survivors. Therefore, the goal of the current study is to identify the key factors associated with practicing (or not practicing) recommended prevention behaviors.

The proposed study will employ a survey of 5-year CRC survivors to collect information about knowledge, attitudes, psychosocial factors, health status and behaviors, and utilization of health care services including screening services. Respondents will be individuals who have previously received a diagnosis of CRC, and will be identified through California Cancer Registry records. Permission to contact these individuals about participation in the study will be obtained from their physicians. Each physician associated with one or more CRC patients will be responsible for reviewing a customized list of names to identify patients who should not be contacted. Following receipt of physician permission, individuals who are eligible for the study will receive a pre-notification letter to inform them about the study and to give them an option to decline participation. Respondents who are recruited to the study will complete a self-administered survey that will be delivered and returned by mail. Non-response will be followed by an invitation to complete the survey via telephone interview. We estimate that 1,950 physicians will be contacted and that we will receive completed surveys from 1,000 CRC survivors.

Findings from this study will help guide future policies, programs, and interventions developed to enhance and improve the long-term health and well being of cancer survivors.

There are no costs to respondents other than their time.

Estimated Annualized Burden Hours
Type of respondents | Form name | Number of respondents | Number of responses per respondent | Average burden per response (in hours) | Total burden (in hours)
Physicians | List of Potential Study Participants | 1,950 | 1 | 13/60 | 423
CRC Survivors | Survey of Health Behaviors | 1,000 | 1 | 40/60 | 667
Total |  |  |  |  | 1,090

Dated: July 23, 2008.
Maryam I. Daneshvar,
Acting Reports Clearance Officer, Centers for Disease Control and Prevention.

[FR Doc. E8-17418 Filed 7-29-08; 8:45 am]

BILLING CODE 4163-18-P